NUCLEAR REGULATORY COMMISSION

[Docket No. 72-8]

Calvert Cliffs Independent Spent Fuel Storage Installation Issuance of Environmental Assessment and Finding of No Significant Impact Regarding a License Amendment

AGENCY: Nuclear Regulatory Commission (NRC).

ACTION: Issuance of an Environmental Assessment and Finding of No Significant Impact.

FOR FURTHER INFORMATION CONTACT: Joseph M. Sebrosky, Senior Project Manager, Spent Fuel Project Office, Office of Nuclear Material Safety and Safeguards, U.S. Nuclear Regulatory Commission, Washington, DC 20555. Telephone: (301) 415-1132; Fax number: (301) 415-8555; E-mail: jms3@nrc.gov.

SUPPLEMENTARY INFORMATION: The U.S. Nuclear Regulatory Commission (NRC or the Commission) is considering issuance of an amendment to Special Nuclear Materials License No. 2505 that would incorporate changes to the updated safety analysis report to alter the design basis limit for the dry shielded canister (DSC) internal pressure from 50 psig to 100 psig. Calvert Cliffs Nuclear Power Plant, Inc. (CCNPP) is currently storing spent nuclear fuel at the Calvert Cliffs independent spent fuel storage installation (ISFSI) located in Calvert County, Maryland.

Environmental Assessment (EA)

Identification of Proposed Action: By letter dated May 16, 2005, CCNPP submitted a request to the NRC to amend license SNM-2505 in order to incorporate changes to the updated safety analysis report to alter the design basis limit for the DSC internal pressure from 50 psig to 100 psig. The design basis limit change is being made to support CCNPP adding the NUHOMS-32P as an optional design to the existing NUHOMS-24P design for dry storage of spent fuel. The NUHOMS-32P design stores eight more spent fuel assemblies than the NUHOMS-24P design.

The proposed action before the NRC is whether to approve the amendment.

Need for the Proposed Action: The proposed action would allow CCNPP to optimize its dry spent fuel storage capacity by upgrading portions of its ISFSI to use the NUHOMS-32P DSC. The proposed action would allow CCNPP to reduce the minimum number of canister loadings each year from four (using the NUHOMS-24P design) to three (with the NUHOMS-32P design).

Environmental Impacts of the Proposed Action: By letter dated December 12, 2003, CCNPP submitted a request to amend license SNM-2505 to add the NUHOMS-32P as an optional design to the existing NUHOMS-24P design for dry storage of spent fuel. An EA and Finding of No Significant Impact (FONSI) were published in the Federal Register on May 24, 2005 (70 FR 29784) for CCNPP's December 12, 2003, license amendment request which concluded that adding the NUHOMS-32P as an optional design to the existing NUHOMS-24P design for dry storage of spent nuclear fuel would have no significant impact on the environment.

The proposed action contained in CCNPP's May 16, 2005, request is to incorporate changes to the updated safety analysis report to alter the design basis limit for the DSC internal pressure from 50 psig to 100 psig. The DSC provides confinement, an inert environment, structural support, and criticality control for 32 pressurized water reactor fuel assemblies. The DSC shell is a welded stainless steel pressure vessel that includes thick shield plugs at either end. To support the pressure increase structural design changes were made to the DSC to ensure that the confinement boundary for the spent nuclear fuel is maintained under the proposed design pressure limit of 100 psig for all specified normal operation, off-normal operation, and accident conditions. The staff has determined that the proposed action would not endanger life or property. No effluents are released from the ISFSI during operation and the proposed changes have no impact to DSC loading activities. Therefore, there is no significant change in the type or significant increase in the amounts of any effluents that may be released offsite. There is also no significant increase with regard to individual or cumulative occupational radiation exposures because of the proposed action. There are no significant radiological environmental impacts associated with the proposed action because the NUHOMS-32P DSC includes design changes to ensure the confinement boundary for the spent nuclear fuel is maintained under the proposed design pressure limit of 100 psig.

The amendment only affects the requirements associated with the loading of the casks and does not affect non-radiological plant effluents or any other aspects of the environment. Therefore, there are no significant non-radiological impacts associated with the proposed action.

Accordingly, the Commission concludes that there are no significant environmental impacts associated with the proposed action.

Alternative to the Proposed Action: As an alternative to the proposed action, the staff considered denial of the amendment request (i.e., the “no-action” alternative). Approval or denial of the amendment request would result in minimal change in the environmental impacts. Therefore, the environmental impacts of the proposed action and the alternative action are similar.

Agencies and Persons Consulted: On August 11, 2005, Richard McLean of the State of Maryland was contacted regarding the proposed action and had no concerns. The NRC staff has determined that consultation under Section 7 of the Endangered Species Act is not required for this specific amendment and will not affect listed species or critical habitat. The NRC staff has also determined that the proposed action is not a type of activity having the potential to cause effects on historic properties. Therefore, no consultation is required under Section 106 of the National Historic Preservation Act.

Conclusions: The staff has reviewed the amendment request submitted by CCNPP and changing the DSC design basis pressure limit would have no significant impact on the environment.

Finding of No Significant Impact

The environmental impacts of the proposed action have been reviewed in accordance with the requirements set forth in 10 CFR part 51. Based upon the foregoing EA, the NRC finds that the proposed action of approving the amendment to the license will not significantly impact the quality of the human environment. Accordingly, the NRC has determined that an environmental impact statement for the proposed license amendment is not warranted.

The request for amendment was docketed under 10 CFR part 72, Docket 72-8. For further details with respect to this action, see the proposed license amendment dated May 16, 2005. The NRC maintains an Agencywide Documents Access Management System (ADAMS), which provides text and image files of NRC's public documents. These documents may be accessed through the NRC's Public Electronic Reading Room on the Internet at: http://www.nrc.gov/reading-rm/adams.html. Copies of the referenced documents will also be available for review at the NRC Public Document Room (PDR), located at 11555 Rockville Pike, Rockville, MD, 20852. PDR reference staff can be contacted at 1-800-397-4209, 301-415-4737 or by e-mail to pdr@nrc.gov. The PDR reproduction contractor will copy documents for a fee.

Dated at Rockville, Maryland, this 31st of August, 2005.
For the Nuclear Regulatory Commission.
Joseph M. Sebrosky,
Senior Project Manager, Spent Fuel Project Office, Office of Nuclear Material Safety and Safeguards.

[FR Doc. 05-17971 Filed 9-9-05; 8:45 am]

BILLING CODE 7590-01-P